DEPARTMENT OF DEFENSE

[Docket ID: DoD-2009-HA-0138]

Proposed Collection; Comment Request

AGENCY: Office of the Assistant Secretary of Defense for Health Affairs, DoD.

ACTION: Notice.

In compliance with Section 3506(c)(2)(A) of the Paperwork Reduction Act of 1995, the Office of the Assistant Secretary of Defense for Health Affairs announces a proposed new information collection. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by November 23, 2009.

ADDRESSES: You may submit comments, identified by docket number and/or RIN number and title, by any of the following methods:

• Federal eRulemaking Portal: http://www.regulations.gov. Follow the instructions for submitting comments.

• Mail: Federal Docket Management System Office, 1160 Defense Pentagon, Washington, DC 20301-1160.

Instructions: All submissions received must include the agency name and docket number or Regulatory Information Number (RIN) for this Federal Register document. The general policy for comments and other submissions from members of the public is to make these submissions available for public viewing on the Internet at http://regulations.gov as they are received without change, including any personal identifiers or contact information.

FOR FURTHER INFORMATION CONTACT: To request more information on this proposed information collection or to obtain a copy of the proposal and associated collection instruments, please write to Ms. Toni Wainwright, Office of the Assistant Secretary of Defense for Health Affairs (OASD), ATTN: Ms. Maureen Viall, SES, Chief Human Capital Officer, 5111 Leesburg Pike, Suite 810A, Falls Church, VA 22041-3206, or call (703) 681-1700.

Title; Associated Form; and OMB Number: Health Professions Scholarship Program (HPSP); OMB Control Number 0720-TBD.

Needs and Uses: This collection of information was developed by a Tri-Service committee intent on providing an efficient, accessible, and common format for applicants to apply for HPSP Scholarships. It serves to consolidate the initial demographic and educational information previously being collected separately by all Services. As such it continues to satisfy the requirement of the DoD Issuance 6000.13; Medical Manpower and Personnel. This form is not intended to replace additional Service-specific information required, rather, it serves to support the DoD, Army, Navy, Air Force, and MHS missions.

Affected Public: Individuals or Households.

Annual Burden Hours: 622 hrs.

Number of Respondents: 1,244.

Responses per Respondent: 1.

Average Burden per Response: .50 (30 minutes).

Frequency: One Time.

SUPPLEMENTARY INFORMATION:

Summary of Information Collection

The Health Professions Scholarship Program (HPSP) offers prospective military physicians, dentists, nurse practitioners, optometrists, psychologists, and veterinarians a paid medical education in exchange for service as a commissioned medical department officer. Programs are available in the United States Army, the United States Navy, and the United States Air Force (AFHPSP).

Created under authority of the Uniformed Services Health Professions Revitalization Act of 1972, the HPSP is the primary source of trained healthcare professionals entering the United States Armed Forces. Subject to eligibility for a commission (such as U.S. citizenship, physical and academic qualifications, etc.), scholarship “selectees” are commissioned as second lieutenants in the U.S. Army Reserve or the U.S. Air Force Reserve, or ensigns in the U.S. Navy Reserve. The selectees are then placed on inactive reserve status during their medical training.

Prospective students compete for scholarships that cover some or all of the medical school years. The Air Force offers three- and four-year scholarships, and the Army offers one- to four-year scholarships. While on scholarship, the financial expenses of tuition, fees, a monthly stipend, and mandatory books and equipment are paid by the student's sponsoring service.

As inactive reserve officers, the students are required to serve 45 days of active duty for training (ADT) each fiscal year. While on active duty, they receive the same rights, privileges, and pay, and are subject to the Uniform Code of Military Justice, as any other active-duty officer. For the first two years of training, this duty is sometimes spent attending an officer basic course/school (Army, Navy, Air Force) or executing “School Orders” (participating in clinical training) at the student's university. For the 3rd and 4th years, the student will often carry out elective clinical rotations at a military hospital.

Upon graduation, the student is promoted to the rank of captain in the Army and Air Force, or lieutenant in the Navy, and is placed on active duty for residency in a military or civilian hospital. In general, Army and Air Force medical residents are allowed to complete their residencies before proceeding to their first assignments, while Navy personnel complete an internship and then serve as a general medical officer (GMO), with the option of completing a residency following their GMO tour.

The incurred service obligation is generally one-for-one for every service-paid year of schooling, with a minimum of two years for physicians and three years for other specialties. Additional time required for certain postgraduate programs, such as lengthy residencies, can result in longer service obligations. Fulfillment of the obligation begins only after postgraduate training is completed. For Navy officers, time spent as a GMO is credited towards the service obligation.

This collection will consolidate and standardize requirements across the Services for the collection and reporting of needed information as it pertains to the enrollee.

Dated: August 21, 2009.
Patricia L. Toppings,
OSD Federal Register Liaison Officer, Department of Defense.

[FR Doc. E9-22786 Filed 9-21-09; 8:45 am]

BILLING CODE 5001-06-P